SECURITIES AND EXCHANGE COMMISSION

[File No. 500-1]

In the Matter of Advanced Cannabis Solutions, Inc.; Order of Suspension of Trading

March 27, 2014.

It appears to the Securities and Exchange Commission that there is a lack of current and accurate information concerning the securities of Advanced Cannabis Solutions, Inc. (“Advanced Cannabis”), a Colorado corporation headquartered in Colorado Springs, Colorado. Advanced Cannabis is dually-quoted under the stock symbol “CANN” on the Over-the-Counter Bulletin Board (“OTC BB”) and OTC Link. There are questions regarding whether certain undisclosed affiliates and shareholders of Advanced Cannabis common stock engaged in an unlawful distribution of securities through the OTC BB and OTC Link.

The Commission is of the opinion that the public interest and the protection of investors require a suspension of trading in the securities of the above-listed company.

Therefore, it is Ordered, pursuant to Section 12(k) of the Securities Exchange Act of 1934, that trading in the securities of the above-listed company is suspended from the period 9:30 a.m. EDT, March 27, 2014, through 11:59 p.m. EDT, on April 9, 2014.

By the Commission.
Jill M. Peterson,
Assistant Secretary.

[FR Doc. 2014-07226 Filed 3-27-14; 4:15 pm]

BILLING CODE 8011-01-P